ENVIRONMENTAL PROTECTION AGENCY

40 CFR Part 52

[EPA-R03-OAR-2014-0701; FRL-9980-33—Region 3]

Air Plan Approval; District of Columbia; State Implementation Plan for the Interstate Transport Requirements for the 2008 Ozone Standard

AGENCY: Environmental Protection Agency (EPA).

ACTION: Proposed rule.

SUMMARY: The Environmental Protection Agency (EPA) is proposing to approve a portion of the state implementation plan (SIP) revision submitted by the District of Columbia (the District) that pertains to the good neighbor and interstate transport requirements of the Clean Air Act (CAA) for the 2008 ozone national ambient air quality standards (NAAQS). The CAA's good neighbor provision requires EPA and states to address the interstate transport of air pollution that affects the ability of other states ¹ to attain and maintain the NAAQS. Specifically, the good neighbor provision requires each state in its SIP to prohibit emissions that will significantly contribute to nonattainment, or interfere with maintenance, of a NAAQS in another state. The District has submitted a SIP revision that addresses the good neighbor provision for the 2008 ozone NAAQS. In this action, EPA is proposing to approve the District's SIP as having adequate provisions to meet the requirements of the good neighbor provision for the 2008 ozone NAAQS in accordance with section 110 of the CAA.

¹ The term state has the same meaning as provided in CAA section 302(d) which specifically includes the District of Columbia.

DATES: Written comments must be received on or before August 6, 2018.

ADDRESSES: Submit your comments, identified by Docket ID No. EPA-R03-OAR-2014-0701 at http://www.regulations.gov, or via email to spielberger.susan@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Ellen Schmitt, (215) 814-5787, or by email at schmitt.ellen@epa.gov.

SUPPLEMENTARY INFORMATION: On June 13, 2014, the District Department of the Environment (DDOE) on behalf of the District submitted a revision to its SIP to satisfy the requirements of section 110(a)(2), including 110(a)(2)(D)(i), of the CAA for the 2008 ozone NAAQS.

I. Background

On March 12, 2008, EPA revised the levels of the primary and secondary ozone standards from 0.08 parts per million (ppm) to 0.075 ppm (73 FR 16436). Ground level ozone is formed when nitrogen oxides (NOX) and volatile organic compounds (VOCs) react in the presence of sunlight. NOX and VOCs are referred to as ozone precursors and are emitted by many types of pollution sources, including motor vehicles, power plants, industrial facilities, and area wide sources, such as consumer products and lawn and garden equipment. Scientific evidence indicates that adverse public health effects occur following exposure to ozone. Section 110(a)(1) of the CAA requires states to submit, within three years after promulgation of a new or revised NAAQS, SIPs meeting the applicable elements of sections 110(a)(2).² Section 110(a)(2)(D)(i) generally requires SIPs to contain adequate provisions to prohibit in-state emissions activities from having certain adverse air quality effects on other states due to interstate transport of air pollution. There are four prongs within section 110(a)(2)(D)(i) of the CAA; section 110(a)(2)(D)(i)(I) contains prongs 1 and 2, while section 110(a)(2)(D)(i)(II) includes prongs 3 and 4. Under section 110(a)(2)(D)(i)(I), also called the good neighbor provision, a state's SIP must contain adequate provisions to prohibit any source or other type of emissions activity within the state from emitting air pollutants that “contribute significantly to nonattainment in, or interfere with maintenance by, any other state with respect to any such national primary or secondary ambient air quality standard.” Under section 110(a)(2)(D)(i)(I) of the CAA, EPA gives independent significance to the matter of nonattainment (prong 1) and to that of maintenance (prong 2). Section 110(a)(2)(D)(i)(II) of the CAA requires SIPs to contain adequate provisions to prohibit emissions that will interfere with measures required to be included in the applicable implementation plan for any other state under part C to prevent significant deterioration of air quality (prong 3) or to protect visibility (prong 4). This proposed action addresses only prongs 1 and 2 of section 110(a)(2)(D)(i).³

² SIP revisions that are intended to meet the requirements of section 110(a)(1) and (2) of the CAA are often referred to as infrastructure SIPs and the elements under 110(a)(2) are referred to as infrastructure requirements.

³ All the other infrastructure SIP elements for the District for the 2008 ozone NAAQS were addressed in a separate rulemaking. See 80 FR 19538 (May 13, 2015).

Through the development and implementation of several previous rulemakings,⁴ EPA, working in partnership with states, established the four-step interstate transport framework to address the requirements of the good neighbor provision for ozone NAAQS.⁵ The four steps are: Step 1—Identify downwind receptors that are expected to have problems attaining or maintaining the NAAQS; step 2—determine which upwind states contribute enough to these identified downwind air quality problems to warrant further review and analysis; step 3—identify the emissions reductions necessary to prevent an identified upwind state from contributing significantly to those downwind air quality problems; and step 4—adopt permanent and enforceable measures needed to achieve those emissions reductions.

⁴ NOX SIP Call. 63 FR 57356 (October 27, 1998); Clean Air Interstate Rule (CAIR). 70 FR 25162 (May 12, 2005); Cross-State Air Pollution Rule (CSAPR). 75 FR 48208 (August 8, 2011); and CSAPR Update. 81 FR 74504 (October 26, 2016).

⁵ The four-step interstate framework has also been used to address requirements of the good neighbor provision for some previous particulate matter (PM) NAAQS.

The CAA gives EPA a backstop role to issue federal implementation plans (FIPs), as appropriate, for states that do not have good neighbor provisions approved in their SIP. To meet the Agency's backstop role for the 2008 ozone NAAQS, EPA finalized an update to the Cross-State Air Pollution Rule (CSAPR) ozone season program by issuing CSAPR Update on September 7, 2016 (81 FR 74504). CSAPR Update addresses the summertime (May-September) transport of ozone pollution in the eastern United States that crosses state lines to help downwind states and communities meet and maintain the 2008 ozone NAAQS.⁶ CSAPR Update uses the same framework used by EPA in developing the original CSAPR, EPA's transport rule addressing the 1997 ozone NAAQS as well as the 1997 and 2006 fine particulate matter (PM2.5) NAAQS.⁷

⁶ In CSAPR Update, EPA issued FIPs to address CAA section 110(a)(2)(D)(i) obligations for 22 eastern states, not including the District.

⁷ Key elements of the four-step interstate transport framework have been upheld by the Supreme Court in EPA v. EME Homer City Generation, L.P., 134 S. Ct. 1584 (2014).

In order to apply the first and second steps of the four-step interstate transport framework for the 2008 ozone NAAQS, EPA evaluated modeling projections for air quality monitoring sites in 2017 and considered current-at-the-time ozone monitoring data at these sites to identify receptors ⁸ that are anticipated to have problems attaining or maintaining the 2008 ozone NAAQS. EPA then used air quality modeling to assess contributions from upwind states to these downwind receptors and evaluated the contributions relative to a screening threshold of one percent (1%) of the NAAQS. States with contributions that equaled or exceeded 1% of the NAAQS were identified as warranting further analysis for significant contribution to nonattainment or interference with maintenance. States with contributions below 1% of the NAAQS were considered to not significantly contribute to nonattainment or interfere with maintenance of the NAAQS in downwind states. In its CSAPR Update analysis for the final rule, EPA found that the District of Columbia did not contribute at or above the 1% threshold to any downwind nonattainment receptor, but did contribute at or above the 1% threshold to one downwind maintenance receptor in Harford County, Maryland (210251001). Because of the District's linkage to a maintenance receptor, EPA continued to step 3 of the four-step framework, where EPA's analysis found no electric generating units (EGUs) in the District of Columbia, with the result that the District has no potential to reduce NOX emissions from EGUs. At the time of CSAPR Update's final action, the District's June 13, 2014 SIP submission (addressing CAA section 110(a)(2)(D)(i), as well as all of 110(a)(2)), was still pending before the Agency. Given the then-pending SIP, the District's lack of EGUs, and EPA's overall assessment that non-EGU controls were neither cost-effective nor feasible by the 2017 implementation year for any states identified as linked to a downwind receptor, EPA did not issue FIP requirements for sources in the District as part of CSAPR Update. See 81 FR at 74553.

⁸ Within the CSAPR framework, the term “receptor” indicates a monitoring site. Under CSAPR Update, nonattainment receptors are downwind monitoring sites that are projected to have an average design value that exceed the NAAQS and that have a current monitored design value above the NAAQS, while maintenance receptors are downwind monitoring sites that are projected to have maximum design values that exceed the NAAQS.

II. Summary of SIP Revision

On June 13, 2014, the District, through the DDOE, submitted a SIP revision to satisfy the requirements of section 110(a)(2) of the CAA for the 2008 ozone NAAQS. In this rulemaking action, EPA is approving the remaining portion of the District's June 13, 2014 submittal,⁹ which consists of prongs 1 and 2 found under section 110(a)(2)(D)(i)(I) of the CAA.

⁹ On April 13, 2015 (80 FR 19538), EPA approved portions of the District's June 13, 2014 submittal for the 2008 ozone NAAQS addressing the following: CAA section 110(a)(2)(A), (B), (C), (D)(i)(II), (D)(ii), (E), (F), (G), (H), (J), (K), (L), and (M). In that action, EPA stated it would take later action on the portion of the June 13, 2014 SIP submittal addressing section 110(a)(2)(D)(i)(I) of the CAA.

In its June 13, 2014 submittal, hereafter known simply as the submittal, the District identifies the implemented regulations within its SIP that limit NOX and/or VOC emissions from District sources. The District indicates that there are no EGUs ¹⁰ or other large industrial sources of NOX emissions within the District. In the submittal, the District also included information on non-EGUs and mobile sources. Attachment A of the submittal lists the SIP-approved measures that help to reduce NOX and VOC emissions from non-EGU and mobile sources within the District. The submittal is available in the docket for this rulemaking and available online at www.regulations.gov, docket ID number EPA-R03-OAR-2014-0701. In the submittal, the District points out that it will continue to rely on federal measures to reduce NOX emissions from onroad and nonroad engines. The District states its sources are already well controlled, and states further reductions beyond the District's current SIP measures are not economically feasible.

¹⁰ The District's last remaining EGUs were decommissioned in 2012, in part to meet permit requirements incorporated into the District's Regional Haze SIP. 77 FR 5191 (February 2, 2012).

III. EPA Evaluation

EPA evaluated the submittal for the 2008 ozone NAAQS, considering: Ozone precursor emissions; an analysis of District source sectors; and in-place controls and regulations. The District was not linked to any nonattainment receptors with respect to the 2008 ozone NAAQS, and EPA has therefore already concluded that the District of Columbia will not significantly contribute to the nonattainment of the 2008 ozone NAAQS in another state. EPA consequently proposes to approve prong 1 of the District's submittal with regard to the 2008 ozone NAAQS.

However, for prong 2, because the District is among 11 states that were linked to the Harford County, Maryland maintenance receptor, EPA further evaluated emissions and sources in the District to determine if the District would interfere with maintenance of the NAAQS at the Harford receptor.

To better understand the District's ozone precursor emissions, EPA compared the data from the two most recent National Emissions Inventories (NEIs). Both total VOC and NOX emissions were reduced between 2011 and 2014 and NOX emissions are expected to be reduced even further by 2017. For example, the total NOX emissions from within the District are projected to be 6,052 tons per year (tpy) in 2017, down from 9,402 tpy in 2011, based on the CSAPR Update 2017 base case emissions inventory.¹¹ A more detailed evaluation regarding District NOX emissions is provided in the technical support document (TSD) for this action, located in www.regulations.gov, docket ID number EPA-R03-OAR-2014-0701.

¹¹ CSAPR Update final rule TSD “Preparation of Emissions Inventories for the Version 6.3, 2011 Emissions Modeling Platform.” https://www.epa.gov/sites/production/files/2016-09/documents/2011v6_3_2017_emismod_tsd_aug2016_final.pdf.

In its review of the submittal, EPA also assessed the current NOX and VOC emission sources in the District. There are no remaining EGUs as the District's last remaining EGU was decommissioned in 2012. The District's two largest emitters of NOX, the U.S. General Services Administration's Central Heating and Refrigeration Plant and the U.S. Capital Power Plant, are subject to federally enforceable emissions limits that have already resulted in significant emission reductions of NOX over the years as discussed in detail in EPA's TSD. Also discussed in the TSD, the District has a variety of other small non-EGU sources where emissions of NOX and/or VOC are controlled through the District's SIP-approved regulations. These provisions and regulations include reasonably available control technology (RACT) for major stationary sources of NOX and VOCs, and rules that limit nonpoint source VOC emissions. An in-depth review of these provisions and regulations, in addition to further information regarding the specific sources found in the District and their emissions are discussed in the TSD for this notice, located in www.regulations.gov, docket ID number EPA-R03-OAR-2014-0701. In the TSD, EPA also analyzed the feasibility of additional control options for District sources and determined that the District's relatively small to medium size point sources are already well controlled under the District's SIP and that there may be limited NOX reduction cost-effectiveness in controlling these sources further in regards to interstate transport for the 2008 ozone NAAQS.

Due to the District's small number of sources and the high cost of further reductions as discussed in the TSD, EPA is proposing to determine that the District's SIP, as presently approved, contains adequate measures to prevent District sources from interfering with maintenance in another state for the 2008 ozone NAAQS.

IV. Proposed Action

EPA is proposing to approve the remaining portion of the June 13, 2014 District of Columbia SIP revision that addresses prongs 1 and 2 of the interstate transport requirements for section 110(a)(2)(D)(i)(I) for the 2008 ozone NAAQS in accordance with section 110 of the CAA for the reasons discussed in this rulemaking. EPA is soliciting public comments on the issues discussed in this document. These comments will be considered before taking final action.

In 2015, EPA approved the following infrastructure elements or portions thereof from the June 13, 2014 submittal: CAA section 110(a)(2)(A), (B), (C), (D)(i)(II), (D)(ii), (E), (F), (G), (H), (J), (K), (L), and (M). 80 FR 19538 (April 13, 2015).

V. Statutory and Executive Order Reviews

Under the CAA, the Administrator is required to approve a SIP submission that complies with the provisions of the CAA and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule, addressing the District of Columbia's interstate transport obligations for the 2008 ozone NAAQS, does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Incorporation by reference, Nitrogen dioxide, Ozone, Volatile organic compounds.

Authority: 42 U.S.C. 7401 et seq.

Dated: June 19, 2018.
Cosmo Servidio,
Regional Administrator, Region III.

[FR Doc. 2018-14332 Filed 7-3-18; 8:45 am]

BILLING CODE 6560-50-P